ENVIRONMENTAL PROTECTION AGENCY

[FRL-9804-4]

Meeting of the Environmental Financial Advisory Board; Public Notice

AGENCY: Environmental Protection Agency (EPA).

ACTION: Notice of a public meeting.

SUMMARY: The United States Environmental Protection Agency's (EPA) Environmental Financial Advisory Board (EFAB) will hold a public meeting on May 15-16, 2013. EFAB is an EPA advisory committee chartered under the Federal Advisory Committee Act (FACA) to provide advice and recommendations to EPA on creative approaches to funding environmental programs, projects, and activities.

The purpose of this meeting is to hear from informed speakers on environmental finance issues, proposed legislation, and EPA priorities; to discuss activities and progress with regard to current EFAB work projects; and to consider recent requests for assistance from EPA offices.

Environmental finance discussions are expected on the following topics: clean air technology; tribal environmental programs; transit-oriented development in sustainable communities, energy efficiency/green house gas emissions reduction; drinking water pricing and infrastructure investment; and green infrastructure.

The meeting is open to the public; however, seating is limited. All members of the public who wish to attend the meeting must register in advance, no later than Friday, May 3, 2013.

DATES: The full board meeting will be held on Wednesday, May 15, 2013 from 1:30 p.m. to 5 p.m., Eastern Time and Thursday, May 16, 2013 from 9-5 p.m., Eastern Time.

ADDRESSES: Potomac Yard Two, North Entrance, Room 4120, 2733 Crystal Drive, Arlington, VA 22202.

Registration and Information Contact:To register, get additional information and for information on access or services for individuals with disabilities, please contact Sandra Williams, U.S. EPA, at (202) 564-4999 or williams.sandra@epa.gov. Request for accommodations for individuals with disabilities should be made 10 days prior to the meeting, to allow processing time of your request.

Dated: April 12, 2012.
Joseph L. Dillon,
Director, Center for Environmental Finance.

[FR Doc. 2013-09159 Filed 4-17-13; 8:45 am]

BILLING CODE 6560-50-P